FEDERAL COMMUNICATIONS COMMISSION

[CC Docket No. 96-45; FCC 01-J-1]

The Federal-State Joint Board on Universal Service

AGENCY: Federal Communications Commission.

ACTION: Notice; comments requested.

SUMMARY: In this document, the Federal-State Joint Board invites comment regarding its review of the definition of universal service. Based on consideration of the Joint Board's recommendations in 1997, the Commission designated nine “core” services that are eligible for universal service support. The Commission recently asked the Joint Board to review this list and, if warranted, recommend modifications.

DATES: Comments are due on or before November 5, 2001. Reply comments are due on or before January 4, 2002.

ADDRESSES: See Supplementary Information section for where and how to file comments.

FOR FURTHER INFORMATION CONTACT: Greg Guice, Attorney, Common Carrier Bureau, Accounting Policy Division, (202) 418-7400, TTY: (202) 418-0484.

SUPPLEMENTARY INFORMATION: In 1997, based on consideration of the Joint Board's recommendations, the Commission designated nine “core” services that are eligible for universal service support: single-party service; voice grade access to the public switched telephone network; Dual Tone Multifrequency signaling or its functional equivalent; access to emergency services; access to operator services; access to interexchange service; access to directory assistance; and toll limitation services for qualifying low-income consumers. The Commission recently asked the Joint Board to review this list and, if warranted, recommend modifications.

The Telecommunications Act of 1996 provides that “[u]niversal service is an evolving level of telecommunications services that the Commission shall establish periodically * * *, taking into account advances in telecommunications and information technologies and services.” It also provides that the Joint Board and the Commission shall base policies for the preservation and advancement of universal service on several principles, including: (1) Quality services should be available at just, reasonable, and affordable rates; (2) access to advanced telecommunications and information services should be provided in all regions of the Nation; and (3) consumers in all regions of the nation should have access to telecommunications and information services that are reasonably comparable to those services provided in urban areas and that are available at rates that are reasonably comparable to rates charged for similar services in urban areas.

The Joint Board invites comment on what services, if any, should be added to or removed from the list of core services eligible for federal universal service support and how those core services should be defined. Commenters should address the four definitional criteria that the Joint Board and the Commission are required to consider under the 1996 Act. Pursuant to section 254(c)(1) of the 1996 Act, the Joint Board and the Commission must consider the extent to which the services in question (1) “are essential to education, public health, or public safety;” (2) “have, through the operation of market choices by customers, been subscribed to by a substantial majority of residential customers;” (3) “are being deployed in public telecommunications networks by telecommunications carriers;” and (4) “are consistent with the public interest, convenience, and necessity.”

In addition, commenters should address the implications of any proposed modifications in terms of section 214(e) of the 1996 Act, which requires carriers to offer each of the core services to be eligible for universal service support. Commenters also should estimate the annual cost of any proposed modifications in the list of core services, and explain the derivation of their estimates. If the cost is expected to change significantly over time, commenters should provide an estimate for each of the first five years. Commenters may also wish to address the availability of functional substitutes for a service, the extent to which consumers may have access to the service in locales other than their own residences (e.g., public payphone, worksite, public facilities), and whether providing support for the service would affect competition in its delivery. Finally, commenters may also wish to address the implications for any modifications in the list of core services of ongoing network modernization trends.

The Commission asked the Joint Board to consider as part of its review the record on requests to redefine voice grade access for universal service purposes. The Commission previously rejected arguments for a higher level of bandwidth capacity, in the First Report and Order, 62 FR 32862, June 17, 1997, concluding that “a network transmission component of Internet access beyond voice grade access should not be supported” pursuant to section 254(c)(1). The Joint Board invites commenters to update the record on the definition of voice grade access, including whether support for a network transmission component of Internet access beyond the existing definition of voice grade access is warranted at this time. The Joint Board also seeks additional comment on technical issues involved in modifying the current standard, including factors other than bandwidth that affect modem performance, and whether modification would encourage investment in enhanced analog modem performance to the detriment of investment in high-speed and advanced services.

The Joint Board also invites comment on whether any advanced or high-speed services should be included within the list of core services. Commenters should address the questions set forth, and should specify the standard or level of service to which the comments apply.

In addition, the Joint Board invites comment on whether “soft dial tone” or “warm line” services should be included within the list of core services. These services enable an otherwise disconnected line to be used to contact emergency services (911) and the local exchange carrier's central business office. In particular, the Joint Board invites comment on the extent to which these services are essential to public health or safety, and how such connections to eligible telecommunications carriers may be provided consistent with the principles of competitive neutrality.

Finally, the Joint Board invites comment on whether intrastate or interstate toll services, expanded area service, or prepaid calling plans should be included in the list of supported services.

Pursuant to §§ 1.415 and 1.419 of the Commission's rules, interested parties may file comments as follows: comments are due November 5, 2001, and reply comments are due January 3, 2002. Comments may be filed using the Commission's Electronic Comment Filing System (ECFS) or by filing paper copies. See Electronic filing of Documents in Rulemaking Proceedings, 63 FR 24121, May 1, 1998. Comments filed through the ECFS can be sent as an electronic file via the Internet to http://www.fcc.gov/e-file/ecfs.html. Generally, only one copy of the electronic submission must be filed. In completing the transmittal screen, commenters should include their full name, Postal Service mailing address, and the applicable docket or rulemaking number. Parties may also submit electronic comments by Internet e-mail. To receive filing instructions for e-mail comments, commenters should send an e-mail to ecfs@fcc.gov, and should include the following words in the body of message, “get form <your e-mail address>.” A sample form and directions will be sent in reply. Parties who choose to file by paper must file an original and four copies of each filing. All filings must be sent to the Commission's Secretary, Magalie Roman Salas, Office of the Secretary, Federal Communications Commission, 445 12 Street, SW., Washington, DC 20554.

Parties also must send three paper copies of their filing to Sheryl Todd, Accounting Policy Division, Common Carrier Bureau, Federal Communications Commission, 445 Twelfth Street SW., Room 5-A422, Washington, DC 20554. In addition, commenters must send diskette copies to the Commission's copy contractor, Qualex International, Portals II, 445 12th Street, SW., Room CY-B402, Washington, DC, 20554.

Pursuant to § 1.1206 of the Commission's Rules, this proceeding will continue to be conducted as a permit-but-disclose proceeding in which ex-parte communications are permitted subject to disclosure.

Federal Communications Commission.
Katherine L. Schroder,
Division Chief, Accounting Policy Division.

[FR Doc. 01-22182 Filed 9-4-01; 8:45 am]

BILLING CODE 6712-01-P